DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: SAMHSA/CMHS Initiative To Reduce/Eliminate Seclusion and Restraint: 8 State Incentive Grants and Coordinating Center—NEW

The Substance Abuse and Mental Health Services Administration (SAMHSA), Center for Mental Health Services (CMHS), has funded an Initiative to Reduce/Eliminate Seclusion and Restraint (S/R) which consists of 8 State Incentive Grants to Build Capacity for Alternatives to Restraint and Seclusion (SM04-007) and a Coordinating Center to Support S/R State Incentive Grants. This initiative is designed to promote the implementation and evaluation of best practice approaches to reducing the use of restraint and seclusion in mental health facilities. Grantees consist of 8 sites (state mental health agencies), most of which will be implementing interventions in multiple facilities (a total of 49 facilities). These include facilities serving adults and those serving children and/or adolescents, with various subgroups such as forensic and sexual offender populations.

With input from multiple experts in the field of restraint and seclusion and alternatives to restraint and seclusion, the project created a common core of data collection instruments that will be used for this cross-site project. The facilities will complete four different instruments: (1) Facility/Program Characteristics Inventory (information about type of facilities, characteristics of persons served, staffing patterns, and unit specific data); (2) Inventory of Seclusion and Restraint Reduction Interventions; (3) Treatment Episode Data (admission data for all clients/patients); and (4) Event Data (data about the use of restraint and seclusion). Data will be submitted by the sites electronically via a secured Web site.

The Facility/Program Characteristic Inventory and Inventory of Seclusion and Restraint Reduction Intervention will be collected annually. The Treatment Episode Data and Event Data will be collected monthly.

The resulting data will help to identify the: (1) Number of programs adopting best practices involving alternative approaches to restraint and seclusion; and (2) program's impact of reducing restraint and seclusion use and adoption of alternative practices. The estimated annual response burden to collect this information is as follows:

Instrument | Number of respondents | Responses/ respondent | Burden/ response (hours) | Annual burden (hours)
Facility/Program Characteristic Inventory | 49 | 1 | 4 | 196
Inventory of Seclusion and Restraint Reduction Interventions | 49 | 1 | 2 | 98
Treatment Episode Data | 49 | 12 | 8 | 4,704
Event Data | 49 | 12 | 8 | 4,704
Total | 49 |  |  | 9,702

Written comments and recommendations concerning the proposed information collection should be sent by September 15, 2005 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 9, 2005.
Anna Marsh,
Executive Officer, SAMHSA.

[FR Doc. 05-16179 Filed 8-15-05; 8:45 am]

BILLING CODE 4162-20-P